DEPARTMENT OF ENERGY

Federal Energy Regulatory Commission

Combined Notice of Filings #1

December 11, 2009.

Take notice that the Commission received the following electric rate filings:

Docket Numbers: ER00-1814-008.

Applicants: Avista Turbine Power, Inc.

Description: Avista Turbine Power, Inc submits a revised market-based rate tariff that includes the Limitation and Exemption section to be authorized for the affiliate transaction sought etc.

Filed Date: 12/08/2009.

Accession Number: 20091210-0053.

Comment Date: 5 p.m. Eastern Time on Tuesday, December 29, 2009.

Docket Numbers: ER05-1482-004, ER98-4540-017, ER94-1188-048, ER99-1623-017, ER07-1199-003, ER09-1505-002, ER98-1279-018.

Applicants: Kentucky Utilities Company, LG&E Energy Marketing Inc., Louisville Gas & Electric Company, Western Kentucky Energy Corporation, Stony Creek Wind Farm, LLC, Electric Energy Inc., Munnsville Wind Farm, LLC.

Description: Non-material notice of change in status filing pursuant to 18 CFR 35.42(d) Q3 2009.

Filed Date: 12/10/2009.

Accession Number: 20091210-5109.

Comment Date: 5 p.m. Eastern Time on Thursday, December 31, 2009.

Docket Numbers: ER06-972-003.

Applicants: Thornwood Management Company, LLC.

Description: Thornwood Management Company, LLC submits revisions to its market based rate schedule to add provisions for the sale of ancillary services and to reflect the tariff language adopted by the FERC.

Filed Date: 12/08/2009.

Accession Number: 20091210-0137.

Comment Date: 5 p.m. Eastern Time on Tuesday, December 29, 2009.

Docket Numbers: ER08-54-015.

Applicants: ISO New England Inc., New England Power Pool.

Description: Report of ISO New England Inc. Regarding the Implementation of Market Rule Changes to Permit Non-Generating Resources to Participate in the Regulation Market.

Filed Date: 12/09/2009.

Accession Number: 20091209-5082.

Comment Date: 5 p.m. Eastern Time on Wednesday, December 30, 2009.

Docket Numbers: ER10-117-001.

Applicants: North American Power and Gas.

Description: North American Power and Gas, LLC submits Amended Petition for Acceptance of initial Tariff, Waivers and Blanket Authority.

Filed Date: 12/09/2009.

Accession Number: 20091210-0055.

Comment Date: 5 p.m. Eastern Time on Wednesday, December 30, 2009.

Docket Numbers: ER10-379-000.

Applicants: Just Energy (U.S.) Corp.

Description: Just Energy Corp submits a FERC Electric Tariff, Original Volume 1.

Filed Date: 12/09/2009.

Accession Number: 20091210-0054.

Comment Date: 5 p.m. Eastern Time on Wednesday, December 30, 2009.

Docket Numbers: ER10-386-000.

Applicants: Midwest Independent Transmission System Operator, Inc.

Description: Midwest Independent Transmission System Operator, Inc submits proposed revisions to its Open Access Transmission, Energy and Operating Reserve Markets Tariff.

Filed Date: 12/04/2009.

Accession Number: 20091207-0204.

Comment Date: 5 p.m. Eastern Time on Monday, December 28, 2009.

Docket Numbers: ER10-387-000.

Applicants: Pacific Gas and Electric Company.

Description: Pacific Gas and Electric Company submits compliance filing to the Transmission Owner Tariff Transmission Access Charge Balancing Account Adjustment.

Filed Date: 12/04/2009.

Accession Number: 20091207-0203.

Comment Date: 5 p.m. Eastern Time on Monday, December 28, 2009.

Docket Numbers: ER10-388-000.

Applicants: Tampa Electric Company.

Description: Tampa Electric Company submits Service Schedule C for inclusion in the agreement for Interchange Service with Florida Municipal Power Agency.

Filed Date: 12/04/2009.

Accession Number: 20091207-0202.

Comment Date: 5 p.m. Eastern Time on Monday, December 28, 2009.

Docket Numbers: ER10-395-000.

Applicants: Covanta Plymouth Renewable Energy Limited Partnership.

Description: Covanta Plymouth Renewable Energy Limited Partnership submits for acceptance the initial FERC Electric Tariff, Original Volume 1, to be effective 2/8/10.

Filed Date: 12/09/2009.

Accession Number: 20091211-0051.

Comment Date: 5 p.m. Eastern Time on Wednesday, December 30, 2009.

Docket Numbers: ER10-399-000.

Applicants: Central Hudson Gas & Electric Corp.

Description: Central Hudson Gas and Electric Corporation submits revisions to its Rate Schedule FERC 202 of the Ninth Revised Sheet 9 et al.

Filed Date: 12/09/2009.

Accession Number: 20091210-0052.

Comment Date: 5 p.m. Eastern Time on Wednesday, December 30, 2009.

Docket Numbers: ER10-400-000.

Applicants: MidAmerican Energy Company.

Description: MidAmerican Energy Company submits an amended Electronic Interconnection Agreement with Northwest Iowa Power Cooperative, dated 9/30/09.

Filed Date: 12/09/2009.

Accession Number: 20091210-0051.

Comment Date: 5 p.m. Eastern Time on Wednesday, December 30, 2009.

Docket Numbers: ER10-403-000.

Applicants: Covanta Plymouth Renewable Energy Limited.

Description: Covanta Plymouth Renewable Energy Limited Partnership submits Notice of Cancellation of its Rate Schedule FERC 2.

Filed Date: 12/09/2009.

Accession Number: 20091210-0136.

Comment Date: 5 p.m. Eastern Time on Wednesday, December 30, 2009.

Docket Numbers: ER10-404-000.

Applicants: Duke Energy Ohio, Inc.

Description: Duke Energy Ohio, Inc submits Memorandum of Understanding with Buckeye Power, Inc et al.

Filed Date: 12/09/2009.

Accession Number: 20091210-0139.

Comment Date: 5 p.m. Eastern Time on Wednesday, December 30, 2009.

Docket Numbers: ER10-405-000.

Applicants: Southern California Edison Company.

Description: Southern California Edison Company submits revised rate sheets to the Standard Large Generator Interconnection Agreement and the Service Agreement for Wholesale Distribution Service Agreement etc.

Filed Date: 12/10/2009.

Accession Number: 20091210-0138.

Comment Date: 5 p.m. Eastern Time on Thursday, December 31, 2009.

Take notice that the Commission received the following electric securities filings:

Docket Numbers: ES10-2-002.

Applicants: Allegheny Energy Supply Company, LLC.

Description: Trans-Allegheny Interstate Line Company Amendment to Section 204 Application.

Filed Date: 12/09/2009.

Accession Number: 20091209-5092.

Comment Date: 5 p.m. Eastern Time on Monday, December 21, 2009.

Docket Numbers: ES10-8-001.

Applicants: Interstate Power & Light Company.

Description: Alliant Energy Corporate Services, Inc. Revised Exhibits B, C D and E.

Filed Date: 12/08/2009.

Accession Number: 20091208-5086.

Comment Date: 5 p.m. Eastern Time on Friday, December 18, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-30218 Filed 12-18-09; 8:45 am]

BILLING CODE 6717-01-P